NATIONAL SCIENCE FOUNDATION

Sunshine Act Meetings

FEDERAL REGISTER CITATION OF PREVIOUS ANNOUNCEMENT: The meeting was noticed on July 17, 2023, at 88 FR 45450.

PREVIOUSLY ANNOUNCED TIME AND DATE OF THE MEETING: Wednesday, July 19, 2023, from 10:30-11:30 a.m. EDT.

CHANGES IN THE MEETING: The meeting is CANCELLED.

CONTACT PERSON FOR MORE INFORMATION: Point of contact for this meeting is: Chris Blair, cblair@nsf.gov, 703/292-7000.

Christopher Blair,
Executive Assistant to the National Science Board Office.

[FR Doc. 2023-15632 Filed 7-19-23; 4:15 pm]

BILLING CODE P